COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities, and deletes services previously provided by such agencies.

Comments Must Be Received on or Before: 12/23/2013.

ADDRESSES: Committee for Purchase From People Who Are Blind or Severely Disabled, 1401 S. Clark Street, Suite 10800, Arlington, Virginia, 22202-4149.

For Further Information or To Submit Comments Contact: Barry S. Lineback, Telephone: (703) 603-7740, Fax: (703) 603-0655, or email CMTEFedReg@AbilityOne.gov.

SUPPLEMENTARY INFORMATION:

This notice is published pursuant to 41 U.S.C 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Kit, Paint, Professional Grade

NSN: 8020-00-NIB-0051—6PC

NSN: 8020-00-NIB-0052—14PC

NSN: 8020-00-NIB-0054—4PC

NPA: Industries for the Blind, Inc., West Allis, WI

Contracting Activity: GENERAL SERVICES ADMINISTRATION, TOOLS ACQUISITION DIVISION I, KANSAS CITY, MO

Coverage: B-List for the Broad Government Requirement as aggregated by the General Services Administration.

Sponge, All-Purpose, Nylon Mesh

NSN: 7920-00-NIB-0556—5″ × 3 1/2″ times; 1 1/4″

NSN: 7920-00-NIB-0569—7 1/2″ × 4 1/4″ × 1 3/4″

NPA: New York City Industries for the Blind, Inc., Brooklyn, NY

Contracting Activity: GENERAL SERVICES ADMINISTRATION, FORT WORTH, TX

Coverage: A-List for the Total Government Requirement as aggregated by the General Services Administration.

Service

Service Type/Location: Base Supply Center Service, San Diego Naval Base, 3985 Cummings Road, San Diego, CA.

NPA: The Lighthouse for the Blind, Inc. (Seattle Lighthouse), Seattle, WA

Contracting Activity: DEPT OF THE NAVY, NAVSUP FLT LOG CTR SAN DIEGO, CA

Deletions

The following services are proposed for deletion from the Procurement List:

Services

Service Type/Location: Janitorial/Custodial Service, Social Security Administration, 4020 Durand Avenue, Racine, WI.

NPA: Lakeside Curative Services, Inc., Racine, WI

Contracting Activity: GSA/PUBLIC BUILDINGS SERVICE, PROPERTY MANAGEMENT SERVICE CENTER, MILWAUKEE, WI

Service Type/Location: Janitorial/Custodial Service, Naval Reserve Center, LaCrosse, WI.

NPA: Riverfront Activity Center, Inc., La Crosse, WI

Contracting Activity: DEPT OF THE NAVY, NAVAL FAC ENGINEEERING CMD MIDWEST, GREAT LAKES, IL

Service Type/Location: Shelf Stocking Service, Brunswick Naval Air Station, 35 Dominion Avenue, Building 335, Topsham, ME.

NPA: Pathways, Inc., Auburn, ME

Contracting Activity: DEFENSE COMMISSARY AGENCY, FORT LEE, VA

Barry S. Lineback,
Director, Business Operations.

[FR Doc. 2013-28061 Filed 11-21-13; 8:45 am]

BILLING CODE 6353-01-P